DEPARTMENT OF ENERGY

Federal Energy Regulatory Commission

[Docket No. IC20-5-000]

Commission Information Collection Activities; Request for Emergency Extension of FERC-923

AGENCY: Federal Energy Regulatory Commission, Department of Energy.

ACTION: Notice of request for emergency extension.

SUMMARY: In compliance with the requirements of the Paperwork Reduction Act of 1995 (PRA), the Federal Energy Regulatory Commission (Commission or FERC) has submitted a request to the Office of Management and Budget (OMB) for a three-month emergency extension of the following information collection: FERC-923, Communication of Operational Information between Natural Gas Pipelines and Electric Transmission Operators. The requested extension would enable the collection to remain active while FERC completes the pending PRA renewal process. No changes are being made to the reporting and recordkeeping requirements.

FOR FURTHER INFORMATION CONTACT: Ellen Brown may be reached by email at DataClearance@FERC.gov and telephone at (202) 502-8663.

SUPPLEMENTARY INFORMATION: The PRA renewal process for this information collection is ongoing. To ensure that OMB approval of the current information collection remains active during the PRA renewal process, FERC has submitted a request to the OMB for a short-term emergency extension, to April 30, 2020.

Title: FERC-923, Communication of Operational Information between Natural Gas Pipelines and Electric Transmission Operators.

On January 28, 2020 the Commission's General Counsel signed a letter to the Administrator of the Office of Information and Regulatory Affairs, OMB. The letter included a request for an emergency extension, explained the Commission's justification for an extension, and was electronically submitted to OMB on January 28, 2020.

Dated: January 29, 2020.
Kimberly D. Bose,
Secretary.

[FR Doc. 2020-02106 Filed 2-3-20; 8:45 am]

BILLING CODE 6717-01-P